NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before August 19, 2011. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Records Management Services (ACNR), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Grain Inspection, Packers, and Stockyards Administration (N1-545-08-21, 6 items, 5 temporary items). Records of the Legislative and Legal division, including correspondence files, cooperative and reimbursable agreements, and docket administrative files. Proposed for permanent retention are official docket files relating to the development of laws and regulations.

2. Department of Agriculture, Grain Inspection, Packers, and Stockyards Administration (N1-545-08-22, 18 items, 15 temporary items). Records of the Technical Services Division, including general inquiries, administrative work tracking records, raw laboratory data and analysis, research agreements, records created in developing calibrations and quality control, and interim and draft documents for program records. Proposed for permanent retention are policies, final research products, and market needs analyses.

3. Department of Agriculture, Risk Management Agency (N1-258-09-5, 7 items, 7 temporary items). Actuarial records including county field notes, requests, inspections, insurance files, and determined yield documentation used to calculate risk, create actuarial logarithms, and provide insurance offers.

4. Department of Agriculture, Risk Management Agency (N1-258-09-6, 5 items, 5 temporary items). Records of the Insurance Program including correspondence, assessments, information, and reports documenting internal program activity and meetings or events with outside entities.

5. Department of Agriculture, Risk Management Agency (N1-258-09-10, 1 item, 1 temporary item). Compliance case files including insurance applications, acreage reports, and correspondence used to assess compliance in the crop insurance program.

6. Department of the Army, Agency-wide (N1-AU-10-15, 1 item, 1 temporary item). Master files of an electronic information system containing network security information such as lists of common vulnerabilities, exploitation and threats, intrusion events, and remediation methods.

7. Department of Defense, Office of the Secretary of Defense (N1-330-11-2, 1 item, 1 temporary item). Master files of an electronic information system containing medical inventories, quality assurance records, and medical technology and readiness information used for managing logistics of treatment facilities.

8. Department of Defense, Office of the Secretary of Defense (N1-330-11-3, 4 items, 4 temporary items). Master files of electronic information systems containing physician credentialing and qualifications records, and adverse actions and malpractice data; medical and dental expense, personnel, and workload data; patient movement management records; and Individuals with Disabilities Education Act implementation records.

9. Department of Defense, Office of the Secretary of Defense (N1-330-11-4, 1 item, 1 temporary item). Master files of an electronic information system containing voter registration information for U.S. citizens overseas, including personal identifiers, contact information, and party affiliation data.

10. Department of Defense, Office of the Secretary of Defense (N1-330-11-5, 1 item, 1 temporary item). Master file of an electronic information system containing testing data on individuals seeking entrance into the Military Services, including personal identifiers, educational experience, and test scores.

11. Department of Homeland Security, U.S. Immigration and Customs Enforcement (N1-567-11-5, 2 items, 2 temporary items). Master files of an electronic information system containing status information on agreements with state and local law enforcement agencies and vetting of state and local law enforcement officers to receive agency credentials.

12. Department of Homeland Security, U.S. Immigration and Customs Enforcement (N1-567-11-13, 4 items, 4 temporary items). Master files of an electronic information system containing approved and denied requests for court orders for recordings of oral, wire, and electronic communications, and queries on previous court order requests.

13. Department of Justice, Federal Bureau of Investigation (N1-65-11-2, 2 items, 2 temporary items). Master files and audit report logs of an electronic information system used to share law enforcement data in the law enforcement community.

14. Department of Justice, Federal Bureau of Investigation (N1-65-11-4, 2 items, 2 temporary items). Records maintained as part of an electronic information system that records activity associated with subjects of interest within a separate and broader electronic law enforcement activity tracking system.

15. Department of Justice, Federal Bureau of Investigation (N1-65-11-28, 175 items, 151 temporary items). Administrative files for selected classifications through October 15, 1995, consisting of administrative and logistical records, citizen correspondence, and routine requests for information.

16. Department of Justice, Tax Division (N1-60-09-46, 3 items, 3 temporary items). Internal Web site records including Web content, management, and operations records.

17. Department of Labor, Women's Bureau (N1-86-10-1, 1 item, 1 temporary item). Master files of an electronic information system used to track contact information, publications, events, meetings, and exhibits related to current Bureau initiatives.

18. Department of State, Bureau of Diplomatic Security (N1-59-11-14, 5 items, 5 temporary items). Records of the Office of the Chief Financial Officer, including routine budget correspondence, apportionments, allotments, reimbursements, and miscellaneous obligations files.

19. Department of State, Bureau of Diplomatic Security (DAA-0059-2011-0002, 4 items, 4 temporary items). Records of the Office of the Chief Technology Officer, including program management records, correspondence, and copies of intra-agency agreements.

20. Department of Transportation, Federal Transit Administration (N1-408-11-1, 1 item, 1 temporary item). Law and legal records, including correspondence and reports relating to the development and accomplishment of policies and programs.

21. Department of Transportation, Federal Transit Administration (N1-408-11-2, 2 items, 2 temporary items). Records relating to legal procurement and contract appeals.

22. Department of Transportation, Federal Transit Administration (N1-408-11-3, 2 items, 2 temporary items). Case and reference files relating to legislation involving the agency and its grantees.

23. Department of Transportation, Federal Transit Administration (N1-408-11-4, 2 items, 1 temporary item). Litigation records consisting of correspondence, pleadings, dispositions, transcripts pertaining to court actions, and non-significant case files. Proposed for permanent retention are case files of historical or legal significance.

24. Department of the Treasury, Alcohol and Tobacco Tax and Trade Bureau (N1-564-09-3, 1 item, 1 temporary item). External Web site content records consisting of general information about the Bureau.

25. Department of the Treasury, Alcohol and Tobacco Tax and Trade Bureau (N1-564-09-6, 1 item, 1 temporary item). Master files of an electronic information system used to track processing and results for alcohol sample formulation and ingredients.

26. Federal Deposit Insurance Corporation, Agency-wide (N1-34-11-1, 4 items, 4 temporary item). Reduction of retention period for records previously approved as temporary, including records relating to bank transaction authorizations and insurance assessment and appeal files.

27. Office of the Director of National Intelligence, Office of Legislative Affairs (N1-576-11-5, 8 items, 4 temporary items). Includes copies of Congressional materials received from other agencies, non-substantive drafts and working papers, and reference files. Proposed for permanent retention are program records, Congressional materials and communications, and substantive working papers.

Dated: July 12, 2011.
Paul M. Wester, Jr.,
Chief Records Officer for the U.S. Government.

[FR Doc. 2011-18411 Filed 7-19-11; 8:45 am]

BILLING CODE 7515-01-P